DEPARTMENT OF ENERGY

Federal Energy Regulatory Commission

[Project No. 10887-030]

Carthage Specialty Paperboard, Inc.; Notice of Application Tendered for Filing With the Commission and Soliciting Additional Study Requests and Establishing Procedural Schedule for Relicensing and a Deadline for Submission of Final Amendments

Take notice that the following hydroelectric application has been filed with the Commission and is available for public inspection.

a. Type of Application: New Minor License.

b. Project No.: 10887-030.

c. Date Filed: October 31, 2019.

d. Applicant: Carthage Specialty Paperboard, Inc.

e. Name of Project: Carthage Paper Maker Mill Hydroelectric Project.

f. Location: On the Black River, near the Village of Carthage, Jefferson and Lewis Counties, New York. The project does not occupy federal land.

g. Filed Pursuant to: Federal Power Act 16 U.S.C. 791 (a)-825(r).

h. Applicant Contact: Martin Weller, Corporate Project Engineer, Ox Industries, Inc., 600 West Elm Avenue, Hanover, PA 17331; (717) 698-3329; and/or E. Steve O'Donnell, General Counsel, Ox Industries, Inc., 600 West Elm Avenue, Hanover, PA 17331; (717) 632-9580.

i. FERC Contact: Monir Chowdhury at (202) 502-6736; or email at monir.chowdhury@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: December 30, 2019.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-10887-030.

m. This application is not ready for environmental analysis at this time.

n. The existing project consists of the following: (1) An 829-foot-long concrete gravity dam with a maximum height of 8 feet at a crest elevation of 726.4 feet above mean sea level (msl); (2) an impoundment with a surface area of about 158 acres and a storage capacity of 767 acre-feet at a normal pool elevation of 726.4 feet msl; (3) a forebay canal approximately 500 feet long, 58 feet wide, and 10 feet deep at the west bank of the river; (4) a masonry and concrete powerhouse 31 feet long, 25 feet wide, and approximately 45 feet high, containing one open flume turbine-generator unit with a rated capacity of 800 kilowatts; (5) an excavated 200-foot-long, 35-foot-wide tailrace; (6) a 750-foot-long generator lead that connects the powerhouse with a substation; and (7) appurtenant facilities.

The Carthage Paper Maker Mill Project is operated in a run-of-river mode with an estimated average annual generation of 3,991 megawatt-hours between 2014 and 2018.

o. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary) December 2019

Request Additional Information December 2019

Issue Acceptance Letter March 2020

Issue Scoping Document 1 for comments April 2020

Request Additional Information (if necessary) June 2020

Issue Scoping Document 2 July 2020

Issue notice of ready for environmental analysis July 2020

Commission issues EA January 2021

Comments on EA February 2021

Final amendments to the application must be filed with the Commission no later than 30 days from the issuance date of the notice of ready for environmental analysis.

Dated: November 12, 2019.
Nathaniel J. Davis, Sr.,
Deputy Secretary.

[FR Doc. 2019-25028 Filed 11-18-19; 8:45 am]

BILLING CODE 6717-01-P